DEPARTMENT OF TRANSPORTATION

Federal Aviation Administration

14 CFR Part 71

[Docket No. FAA-2023-2194; Airspace Docket No. 23-ASO-19]

RIN 2120-AA66

Amendment of VOR Federal Airways V-5, V-47, V-97, V-128, V-275, and V-517, and United States Area Navigation (RNAV) Route T-315, and Revocation of VOR Federal Airway V-19 in the Vicinity of Cincinnati, KY

AGENCY: Federal Aviation Administration (FAA), DOT.

ACTION: Notice of proposed rulemaking (NPRM).

SUMMARY: This action proposes to amend Very High Frequency Omnidirectional Range (VOR) Federal airways V-5, V-47, V-97, V-128, V-275, and V-517, and United States Area Navigation (RNAV) route T-315, and revoke VOR Federal airway V-19. The FAA is proposing this action due to the planned decommissioning of the VOR portion of the Cincinnati, KY (CVG), VOR/Tactical Air Navigation (VORTAC) navigational aid (NAVAID). The Cincinnati VOR is being decommissioned in support of the FAA's VOR Minimum Operational Network (MON) program.

DATES: Comments must be received on or before December 26, 2023

ADDRESSES: Send comments identified by FAA Docket No. FAA-2023-2194 and Airspace Docket No. 23-ASO-19 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

VOR Federal airways are published in paragraph 6010(a) and United States Area Navigation Routes (T-routes) are published in paragraph 6011 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

The FAA is planning to decommission the Cincinnati, KY, VOR in May 2024. The Cincinnati VOR was one of the candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Cincinnati, KY, VORTAC is planned for decommissioning, the co-located Tactical Air Navigation (TACAN) portion of the NAVAID is being retained to provide navigational service for military operations and Distance Measuring Equipment (DME) service in support of current and future NextGen PBN flight procedure requirements.

The VOR Federal airways affected by the Cincinnati VOR decommissioning are V-5, V-19, V-47, V-97, V-128, V-275, and V-517. With the planned decommissioning of the Cincinnati VOR, the remaining ground-based NAVAID coverage in the area is insufficient to enable the continuity of the affected airways. As such, proposed modifications to V-5, V-47, V-128, V-275, and V-517 would result in the airways being shortened; to V-97 would result in an existing gap in the airway being expanded; and to V-19 would result in the airway being revoked.

To address the proposed modifications to the affected VOR Federal airways, instrument flight rules (IFR) pilots operating aircraft equipped with RNAV capabilities could use RNAV routes T-213, T-215, and T-217 or navigate point-to-point using the existing fixes and waypoints (WP) that will remain in place to support continued operations though the affected area. IFR pilots operating aircraft not equipped with RNAV capabilities may request air traffic control (ATC) radar vectors to fly through or around the affected area. Additionally, visual flight rules pilots who elect to navigate via the affected Air Traffic Service (ATS) routes may also take advantage of the ATC services listed previously.

Additionally, the FAA proposes to modify United States RNAV route T-315 to further mitigate the proposed modifications to the affected airways. The route would be extended westward to mitigate the proposed removal of the affected V-128 airway segment. The extended T-315 would provide pilots with RNAV-equipped aircraft a route alternative through the affected area, reduce ATC sector workload and complexity, reduce pilot-to-controller communications, and support the FAA's continued NextGen efforts to modernize the NAS from a ground-based system to a satellite-based system.

The Proposal

The FAA is proposing to amend 14 CFR part 71 to amend VOR Federal airways V-5, V-47, V-97, V-128, V-275, and V-517, and United States RNAV route T-315, and to revoke VOR Federal airway V-19 due to the planned decommissioning of the VOR portion of the Cincinnati, KY, VORTAC. The proposed ATS route actions are described below.

V-5: V-5 currently extends between the Pecan, GA, VOR/DME and the Athens, GA, VOR/DME and between the New Hope, KY, VOR/DME and the Appleton, OH, VORTAC. The FAA proposes to remove the airway segment between the Louisville, KY, VORTAC and the Appleton VORTAC due to the planned decommissioning of the VOR portion of the Cincinnati VORTAC. Additionally, the FAA proposes to also remove the airway segment between the New Hope, KY, VOR/DME and the Louisville, KY, VORTAC due to that airway segment overlapping V-513 which will remain charted and provide navigational guidance between the two NAVAIDs. As amended, the airway would be changed to extend between the Pecan VOR/DME and the Athens VOR/DME.

V-19: V-19 currently extends between the Cincinnati, KY (reflected as OH in the current description), VOR/DME and the Appleton, OH, VORTAC. The FAA proposes to revoke the airway in its entirety.

V-47: V-47 currently extends between the Cunningham, KY, VOR/DME and the Pocket City, IN, VORTAC and between the Cincinnati, KY, VORTAC and the Flag City, OH, VORTAC. The FAA proposes to remove the airway segment between the Cincinnati VORTAC and the Rosewood, OH, VORTAC due to the planned decommissioning of the VOR portion of the Cincinnati VORTAC. Additionally, the FAA proposes to also remove the airway segment between the Cunningham VOR/DME and the Pocket City VORTAC due to that airway segment overlapping both V-11 and V-305 that will remain charted and provide navigational guidance between the two NAVAIDs. As amended, the airway would be changed to extend between the Rosewood VORTAC and the Flag City VORTAC.

V-97: V-97 currently extends between the Dolphin, FL, VORTAC and the intersection of the Pecan, GA, VOR/DME 357° and Vienna, GA, VORTAC 300° radials (PRATZ Fix); between the intersection of the Rome, GA, VORTAC 060° and Volunteer, TN, VORTAC 197° radials (NELLO Fix) and the intersection of the Chicago Heights, IL, VORTAC 358° and DuPage, IL, VOR/DME 101° radials (NILES Fix); and between the Nodine, MN, VORTAC and the Gopher, MN, VORTAC. The airspace below 2,000 feet mean sea level (MSL) outside the United States is excluded. The FAA proposes to remove the airway segment between the Lexington, KY, VOR/DME and the Shelbyville, IN, VOR/DME due to the planned decommissioning of the VOR portion of the Cincinnati VORTAC. Additionally, the FAA proposes to also remove the airway segment between the Shelbyville VOR/DME and the Chicago Heights VORTAC due to that airway segment overlapping V-51 that will remain charted and provide navigational guidance between the two NAVAIDs. Lastly, the FAA proposes to also remove the airway segment between the Chicago Heights VORTAC and the intersection of the Chicago Heights VORTAC 358° and DuPage VOR/DME 101° radials (NILES Fix) due to that airway segment overlapping V-7 that will remain charted and provide navigational guidance between the Chicago Heights VORTAC and the NILES Fix. As amended, the airway would be changed to extend between the Dolphin VORTAC and the Lexington VOR/DME and between the Nodine VORTAC and the Gopher VORTAC.

V-128: V-128 currently extends between the Brickyard, IN, VORTAC and the Casanova, VA, VORTAC. The FAA proposes to remove the airway segment between the Brickyard VORTAC and the York, KY, VORTAC. As amended, the airway would be changed to extend between the York VORTAC and the Casanova VORTAC. Additional airway changes have been proposed in a separate NPRM action.

V-275: V-275 currently extends between the Cincinnati, KY, VORTAC and the intersection of the Dayton, OH, VOR/DME 007° and Flag City, OH, VORTAC 313° radials (KLOEE Fix). The FAA proposes to remove the airway segment between the Cincinnati VORTAC and the Dayton VOR/DME. As amended, the airway would be changed to extend between the Dayton VOR/DME and the intersection of the Dayton VOR/DME 007° and Flag City VORTAC 313° radials (KLOEE Fix).

V-517: V-517 currently extends between the Snowbird, TN, VORTAC and the Cincinnati, KY, VORTAC. The FAA proposes to remove the airway segment between the Falmouth, KY, VOR/DME and the Cincinnati VORTAC. As amended, the airway would be changed to extend between the Snowbird VORTAC and the Falmouth VOR/DME.

T-315: T-315 currently extends between the JARLO, WV, WP and the Burlington, VT, VORTAC. The FAA proposes to extend the route westward from the JARLO WP to the Brickyard, IN, VORTAC. The route extension would include the ILILE, OH, Fix that would be converted to a WP prior to the planned decommissioning of the Cincinnati VOR. As amended, T-315 would be changed to extend between the Brickyard, IN, VORTAC and the Burlington, VT, VORTAC and provide mitigation for the proposed V-128 airway segment removal. Additional route changes have been proposed in a separate NPRM action. The full T-315 route description is listed in the amendments to part 71 as set forth below.

The NAVAID radials listed in the VOR Federal airway descriptions in The Proposed Amendment section below are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6010(a) Domestic VOR Federal Airways.

* * * * *

V-5 [Amended]

From Pecan, GA; Vienna, GA; Dublin, GA; to Athens, GA.

* * * * *

V-19 [Removed]

* * * * *

V-47 [Amended]

From Rosewood, OH; to Flag City, OH.

* * * * *

V-97 [Amended]

From Dolphin, FL; La Belle, FL; St. Petersburg, FL; Seminole, FL; Pecan, GA; to INT Pecan 357° and Vienna, GA 300° radials. From INT Rome, GA, 060° and Volunteer, TN, 197° radials; Volunteer; London, KY; to Lexington, KY. From Nodine, MN; to Gopher, MN. The airspace below 2,000 feet MSL outside the United States is excluded.

* * * * *

V-128 [Amended]

From York, KY; Charleston, WV; to Casanova, VA.

* * * * *

V-275 [Amended]

From Dayton, OH; to INT Dayton 007° and Flag City, OH, 313° radials.

* * * * *

V-517 [Amended]

From Snowbird, TN; INT Snowbird 329° and London, KY, 141° radials; London; INT London 004° and Falmouth, KY, 164° radials; to Falmouth.

* * * * *

Paragraph 6011 United States Area Navigation Routes.

* * * * *

T-315 Brickyard, IN (VHP) to Burlington, VT (BTV) [Amended]
Brickyard, IN (VHP) | VORTAC | (Lat. 39°48′53.02″ N, long. 086°22′03.00″ W)
DECEE, IN | FIX | (Lat. 39°18′41.36″ N, long. 085°45′56.84″ W)
JADRO, IN | FIX | (Lat. 39°06′24.58″ N, long. 085°01′30.97″ W)
JIMUR, KY | FIX | (Lat. 39°01′17.62″ N, long. 084°41′02.13″ W)
CALIF, KY | FIX | (Lat. 38°56′01.97″ N, long. 084°18′38.27″ W)
ILILE, OH | WP | (Lat. 38°33′14.45″ N, long. 082°36′07.02″ W)
JARLO, WV | WP | (Lat. 38°20′58.85″ N, long. 081°46′11.68″ W)
SHANE, WV | FIX | (Lat. 37°58′31.15″ N, long. 080°48′24.34″ W)
DBRAH, VA | WP | (Lat. 37°20′34.14″ N, long. 080°04′10.75″ W)
SPNKS, VA | WP | (Lat. 37°17′21.31″ N, long. 079°33′17.14″ W)
KONRD, VA | WP | (Lat. 37°20′39.83″ N, long. 079°01′33.27″ W)
CRUMB, VA | FIX | (Lat. 37°28′09.44″ N, long. 078°08′27.69″ W)
Flat Rock, VA (FAK) | VORTAC | (Lat. 37°31′42.63″ N, long. 077°49′41.59″ W)
WAVES, VA | WP | (Lat. 37°35′13.54″ N, long. 077°26′52.03″ W)
TAPPA, VA | FIX | (Lat. 37°58′12.66″ N, long. 076°50′40.62″ W)
COLIN, VA | FIX | (Lat. 38°05′59.23″ N, long. 076°39′50.85″ W)
SHLBK, VA | WP | (Lat. 38°20′16.21″ N, long. 076°26′10.51″ W)
PRNCZ, MD | WP | (Lat. 38°37′38.10″ N, long. 076°05′08.20″ W)
CHOPS, MD | WP | (Lat. 38°45′41.81″ N, long. 075°57′36.18″ W)
COSHA, DE | WP | (Lat. 38°57′57.57″ N, long. 075°30′51.59″ W)
Atlantic City, NJ (ACY) | VORTAC | (Lat. 39°27′21.15″ N, long. 074°34′34.73″ W)
PANZE, NJ | FIX | (Lat. 39°40′33.58″ N, long. 074°10′05.45″ W)
DIXIE, NJ | FIX | (Lat. 40°05′57.72″ N, long. 074°09′52.17″ W)
Kennedy, NY (JFK) | VOR/DME | (Lat. 40°37′58.40″ N, long. 073°46′17.00″ W)
KEEPM, NY | FIX | (Lat. 40°50′14.77″ N, long. 073°32′42.58″ W)
TRANZ, NY | FIX | (Lat. 40°51′31.95″ N, long. 073°22′30.80″ W)
PUGGS, NY | WP | (Lat. 40°56′27.65″ N, long. 073°13′47.73″ W)
EEGOR, CT | WP | (Lat. 41°09′38.94″ N, long. 073°07′27.66″ W)
Hartford, CT (HFD) | VOR/DME | (Lat. 41°38′27.98″ N, long. 072°32′50.70″ W)
DVANY, CT | FIX | (Lat. 41°51′44.56″ N, long. 072°18′11.25″ W)
Gardner, MA (GDM) | VOR/DME | (Lat. 42°32′45.32″ N, long. 072°03′29.48″ W)
KEYNN, NH | WP | (Lat. 42°47′39.99″ N, long. 072°17′30.35″ W)
EBERT, VT | WP | (Lat. 43°32′58.08″ N, long. 072°45′42.43″ W)
Burlington, VT (BTV) | VOR/DME | (Lat. 44°23′49.58″ N, long. 073°10′57.49″ W)

* * * * *

Issued in Washington, DC, on November 2, 2023.
Karen L. Chiodini,
Acting Manager, Rules and Regulations Group.

[FR Doc. 2023-24661 Filed 11-8-23; 8:45 am]

BILLING CODE 4910-13-P